DEPARTMENT OF COMMERCE

International Trade Administration

[A-475-818]

Certain Pasta from Italy: Extension of Final Results of Antidumping Duty Administrative Review

AGENCY: Import Administration, International Trade Administration, Department of Commerce.

EFFECTIVE DATE: November 21, 2003.

FOR FURTHER INFORMATION CONTACT: Mark Young at (202) 482-6397, Office of AD/CVD Enforcement VI, Group II, Import Administration, International Trade Administration, U.S. Department of Commerce, 14th Street and Constitution Ave, NW., Washington, DC 20230.

Statutory Time Limits

Section 751(a)(3)(A) of the Tariff Act of 1930, as amended (the Act), requires the Department to issue (1) the preliminary results of a review within 245 days after the last day of the month in which occurs the anniversary of the date of publication of an order or finding for which a review is requested, and (2) the final results within 120 days after the date on which the preliminary results are published. However, if it is not practicable to complete the review within that time period, section 751(a)(3)(A) of the Act allows the Department to extend the time limit for the preliminary results to a maximum of 365 days and the final results to a maximum of 180 days (or 300 days if the Department does not extend the time limit for the preliminary results) from the date of the publication of the preliminary results. See also 19 CFR 351.213(h)(2).

Background

On August 19, 2002, the Department published a notice of initiation of the administrative review of the antidumping duty order on certain pasta from Italy, covering the period July 1, 2001 to June 30, 2002 (67 FR 55000). On March 27, 2003, the Department fully extended the preliminary results of the aforementioned review by 120 days (68 FR 14945). On August 7, 2003, the Department published the preliminary results of its review (68 FR 47020). The final results of this review are currently due no later than December 5, 2003.

Extension of Final Results of Reviews

We determine that it is not practicable to complete the final results of this review within the original time limit, because the Department needs additional time to fully consider certain arguments raised by parties in their case briefs. See Decision Memorandum from Melissa Skinner to Holly Kuga, dated November 7, 2003, which is on file in the Central Records Unit, B-099 of the main Commerce Building. Therefore, we are extending the deadline for the final results of the above-referenced review until February 3, 2004.

This extension is in accordance with section 751(a)(3)(A) of the Act and 19 CFR 351.213(h)(2).

Dated: November 14, 2003.
Holly Kuga,
Acting Deputy Assistant Secretary for Import Administration.

[FR Doc. 03-29171 Filed 11-20-03; 8:45 am]

BILLING CODE 3510-DS-P